DEPARTMENT OF HOUSING AND URBAN DEVELOPMENT

[Docket No. FR-5683-N-35]

Notice of Submission of Proposed Information Collection to OMB; Section 901 Notice of Intent and Fungibility Plan for Combining Public Housing Capital or Operating Funds, or Housing Choice Voucher Funds To Assist Displaced Families and Address Damages

AGENCY: Office of the Chief Information Officer, HUD.

ACTION: Notice.

SUMMARY: The proposed information collection requirement described below has been submitted to the Office of Management and Budget (OMB) for review, as required by the Paperwork Reduction Act. HUD is soliciting public comments on the subject proposal.

DATES: Comments Due Date: June 7, 2013.

ADDRESSES: Interested persons are invited to submit comments regarding this proposal. Comments should refer to the proposal by name and/or OMB approval Number (2577-0245) and should be sent to: HUD Desk Officer, Office of Management and Budget, New Executive Office Building, Washington, DC 20503; fax: 202-395-5806. Email: OIRA_Submission@omb.eop.gov fax: 202-395-5806.

FOR FURTHER INFORMATION CONTACT: Colette Pollard., Reports Management Officer, QDAM, Department of Housing and Urban Development, 451 Seventh Street SW., Washington, DC 20410; email Colette Pollard at Colette.Pollard@hud.gov. or telephone (202) 402-3400. This is not a toll-free number. Copies of available documents submitted to OMB may be obtained from Ms. Pollard.

SUPPLEMENTARY INFORMATION: This notice informs the public that the HUD has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposed: Section 901 Notice of Intent and Fungibility Plan for Combining Public Housing Capital or Operating Funds, or Housing Choice Voucher Funds to Assist Displaced Families and Address Damages.

OMB Approval Number: 2577-0245.

Form Numbers: None.

Description of the need for the information and proposed use:

The Notice of Intent is necessary for HUD to be informed about which eligible PHAs elect to invoke the funding flexibility authorized by section 901 of the Emergency Supplemental Appropriations (Pub. L. 109-148). The Fungibility Plan and Reports are necessary for HUD to know how eligible PHAs plan to reallocate and spend these funds, the rate such funds are obligated and expended, and the results in using this funding flexibility. Fungibility Plans proposing to use Section 901 flexibility and funding to develop new housing units under Capital Fund mixed-finance uses or for development of HCV project-based units were required to include new development proposals following the format required by 24 CFR 941.606 or mixed-finance rules as appropriate. Fungibility Plans proposing to use Section 901 flexibility to pay for public housing renovations were required to submit CFP Annual Statements identifying work items and costs. These collections are approved under separate OMB numbers. Under Section 901, funds from one of the programs identified above could be used for another program's purposes, but were required to follow the rules of the program in which the funds would be used. HUD has not received any new Section 901 Fungibility Plans since 2009, which was the last year Congress extended this funding flexibility to address the impacts of Hurricanes Rita and Katrina. Some PHAs have used the fungibility plan format to submit revisions to their originally approved plans.

Estimation of the total number of hours needed to prepare the information collection including number of respondents, frequency of response, and hours of response:

Notification of Intent and Fungibility Plan. This is a one-time submission estimated to take 40 hours for each of up to twelve eligible PHAs that submitted plans from 2006 through 2009. PHAs may also use this format to request HUD approval for subsequent plan revisions. The original burden estimate for this information collection was 6,624 hours assuming all ninety-six PHAs in the areas impacted by Hurricanes Katrina and Rita would opt to use it. A later burden estimate of 1,248 hours was submitted, when in 2006, only eight out of ninety-six eligible PHAs submitted plans to use Section 901 flexibility. In 2007, seven out of the eight 2006 PHAs and one new PHA submitted plans to use Section 901 flexibility. In 2008, seven out of the nine 2006 and 2007 PHAs and three new PHAs submitted plans to use Section 901 flexibility. Ten or fewer respondents have submitted plans to use Section 901 flexibility each year. One PHA submitted a plan in 2009, the last year in which Section 901 funding flexibility was available. As a result, the estimate of burden hours for new fungibility plans has been removed. A total of ten different PHAs have been approved to use and must report the results of Section 901 flexibility. A new estimate of burden for Section 901 Notifications of Intent and Fungibility Plans or revisions, and subsequent periodic reporting is 1,680 hours based on requirements for 10 PHAs to prepare and submit these documents.

Status: Extension without change of a currently approved collection.

Authority: Section 3507 of the Paperwork Reduction Act of 1995, 44 U.S.C. 35, as amended.

Dated: May 2, 2013.
Colette Pollard,
Department Reports Management Officer, Office of the Chief Information Officer.

[FR Doc. 2013-10942 Filed 5-7-13; 8:45 am]

BILLING CODE 4210-67-P